DEPARTMENT OF THE INTERIOR

Bureau of Land Management

[DOI-BLM-NV-W010-2020-0012-EIS; LLNVW00000.L51100000.GN0000. LVEMF1907180.19X .MO#4500145138]

Notice of Availability of the Draft Environmental Impact Statement

AGENCY: Bureau of Land Management, Interior.

ACTION: Notice of availability.

SUMMARY: In accordance with the National Environmental Policy Act of 1969, as amended (NEPA), and the Federal Land Policy and Management Act of 1976, as amended, the Bureau of Land Management (BLM) Humboldt River Field Office, Winnemucca, Nevada, as the lead agency, has prepared a Draft Environmental Impact Statement (EIS) to analyze the potential impacts of approving the Lithium Nevada Corp. (LNC), Thacker Pass Project Proposed Plans of Operations and Reclamation Plan Permit Applications (Project) in Humboldt County, Nevada. In accordance with the Bald and Golden Eagle Protection Act (Eagle Act), the Fish and Wildlife Service (FWS) is a cooperating agency with the BLM on the development of this Draft EIS to analyze the potential impacts of approving LNC's request for an incidental take permit for golden eagles. The FWS will evaluate LNC's Eagle Conservation Plan (ECP), which describes their request for incidental take of eagles and a 5-year incidental take permit for golden eagles under the Eagle Act. This notice announces the beginning of the public comment period to solicit public comments on the Draft EIS.

DATES: To ensure comments will be considered, BLM must receive written comments on the Draft EIS no later than 45 days after the Environmental Protection Agency publishes its notice of availability of the Thacker Pass Lithium Mine Project Draft Environmental Impact Statement DOI-BLM-NV-W010-2020-0012-EIS in the Federal Register, and will coordinate with the FWS on any comments received regarding impacts to golden eagles, and the Eagle Act permitting process. The BLM will announce the dates and locations of any future meetings or hearings and any other public involvement activities at least 15 days in advance through local media, newspapers and the BLM website at: https://www.blm.gov/office/winnemucca-district-office.

ADDRESSES: You may submit comments related to the Project by any of the following methods:

• Website: https://bit.ly/2Npgf9l.

• Email: blm_nv_wdo_thacker_pass@blm.gov, include “Thacker Pass Project EIS Comments” in the subject line.

• Fax: (775) 623-1740, please mark “Attn: Thacker Pass Project EIS Comments”.

• Mail: Bureau of Land Management, Attn: Thacker Pass Project EIS Comments, 5100 E Winnemucca Blvd., Winnemucca, NV 89445.

FOR FURTHER INFORMATION CONTACT: For questions about the proposed Project, contact Mr. Ken Loda, telephone: (775) 623-1500, address: 5100 E Winnemucca Blvd., Winnemucca, NV 89445. Contact Mr. Loda to have your name added to our mailing list. For questions concerning the Eagle Act permitting process, contact Mr. Thomas Leeman at (916) 978-6189. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant LNC proposes to construct, operate, reclaim, and eventually close an open pit lithium mine, processing operation, and continued exploration activities on public lands in northern Humboldt County, Nevada. LNC currently has two approved Plans of Operations (PoOs), one for exploration and one for a specialty clay mine, approved within the area proposed for the new lithium mine. There are 75 acres of exploration disturbance approved under LNC's existing exploration PoO, and 140 acres of existing disturbance approved under their clay mine PoO. LNC has submitted two new PoOs to develop the Project and to provide a description of the proposed lithium mining, processing, and exploration operations. Each of these PoOs include a reclamation plan for the activities identified under the respective PoO. The operations proposed under the two new PoOs would involve a project area of about 18,000 acres, with an ultimate disturbance footprint of approximately 5,700 acres. The proposed lithium mine PoO boundary overlaps the existing PoO boundaries.

LNC proposes to develop the Project in two phases over the estimated 41-year mine life. Pending LNC receiving the required authorizations and permits for Phase 1 of the Project, pre-stripping would commence in early 2021 and construction in the first quarter of 2021, with mining production and ore processing estimated to commence in late 2022. LNC estimates that it would complete mining, processing and concurrent reclamation activities in 2061, after which, reclamation, site closure activities, and post-closure monitoring would occur for a minimum of five years.

The proposed activities and facilities associated with the Project include development of an open pit mine; construction and operation of lithium processing and production facilities, mine facilities to support mining operations, two waste rock storage facilities, a run-of-mine stockpile, a clay tailings filter stack, water supply facilities, two power transmission lines and substations, and various ancillary facilities. Pit dewatering is not expected to be required as part of the Project until 2055, and concurrent backfill of the open pit would occur after sufficient volume has been excavated to initiate direct placement of waste rock. Continued exploration would be conducted under both PoOs. Upon further review the BLM has determined than an amendment to the Winnemucca District Resource Management Plan is not necessary.

In addition, the Project would affect golden eagle nests and territories by planned blasting within a two-mile radius of golden eagle nests; therefore, LNC has requested authorization from the FWS to disturb eagle nests and a 5-year incidental take permit for golden eagles under the Eagle Act. LNC's Eagle Conservation Plan is the foundation of the permit application and contains commitments to avoid, minimize, and mitigate adverse effects on golden eagles resulting from the implementation of the Project. Issuance of an eagle take permit must comply with the Eagle Act and all related regulatory requirements (50 CFR 22.26).

The purpose of this comment period is for the public to comment on the Draft EIS. The Draft EIS, through scoping, has identified and analyzed impacts to the following resources: Air and atmospheric resources; cultural resources; noxious weeds, invasive species, and nonnative species; migratory birds; golden eagles; Native American religious concerns; wastes and materials (hazardous and solid); water quality (surface and ground); geology, minerals and energy; lands and realty; paleontology; rangeland management; recreation; social values and economics; soils; special status species (plants and wildlife); transportation and access; vegetation; visual resources; and wildlife. The Draft EIS describes and analyzes the proposed Project's direct, indirect, and cumulative impacts on all affected resources. In addition to the Proposed Action, Alternative A, the following alternatives are also analyzed in the document: Alternative B, which is a partial backfilling of the pit that would result in a small wet area; Alternative C which does not backfill the pit and would result in three small, and probably seasonal, pit lakes; and the No Action Alternative. Alternatives A, B and C request an eagle take permit for loss of productivity of three golden eagle breeding pairs. Additionally, Alternative C would require nest site enhancement as compensatory mitigation under the Bald and Golden Eagle Protection Act.

The BLM has consulted and continues to consult with Indian tribes on a government-to-government basis in accordance with Executive Order 13175 and other policies. Tribal concerns, including impacts to Indian trust assets and potential impacts to cultural resources have been analyzed in the Draft EIS. Federal, State, and local agencies, along with tribes and other stakeholders that may be interested in or affected by the proposed Project that the BLM and FWS are evaluating, are invited to participate in the comment process.

Before including your address, phone number, email address, or other personal identifying information in your comment, you should be aware that your entire comment—including your personal identifying information—may be made publicly available at any time. While you may request in your comment that your personal identifying information be withheld from public review, we cannot guarantee that we will be able to do so.

Authority: 40 CFR 1501.7.

Ester McCullough,
Winnemucca District Manager.

[FR Doc. 2020-16448 Filed 7-28-20; 8:45 am]

BILLING CODE 4310-HC-P